DEPARTMENT OF THE INTERIOR

Fish and Wildlife Service

[FWS-R2-ES-2013-N189; FXES11130200000-134-FF02ENEH00]

Endangered and Threatened Species Permit Applications

AGENCY: Fish and Wildlife Service, Interior.

ACTION: Notice of receipt of applications; request for public comment.

SUMMARY: We, the U.S. Fish and Wildlife Service (Service), invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before October 9, 2013.

ADDRESSES: Marty Tuegel, Section 10 Coordinator, by U.S. mail at Division of Endangered Species, U.S. Fish and Wildlife Service, P.O. Box 1306, Room 6034, Albuquerque, NM at 505-248-6920. Please refer to the respective permit number for each application when submitting comments.

FOR FURTHER INFORMATION CONTACT: Susan Jacobsen, Chief, Endangered Species Division, P.O. Box 1306, Albuquerque, NM 87103; 505-248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-63651A

Applicant: Power Engineers, Inc., Austin, Texas.

Applicant requests a new permit for research and recovery purposes to conduct presence/absence surveys of golden-cheeked warbler (Dendroica chrysoparia) and black-capped vireo (Vireo atricapilla) within Texas.

Permit TE-030115

Applicant: Bureau of Land Management, Safford Field Office, Safford, Arizona.

Applicant requests an amendment to a current permit for research and recovery purposes to capture and transport Gila chub (Gila intermedia) to the Fish Heath Centers for health assessments and to capture and transport salvaged individuals in case of drought, fire, or other environmental hazard throughout Arizona.

Permit TE-819473

Applicant: Eagle Environmental, Inc., Santa Fe, New Mexico.

Applicant requests a renewal to a current permit for research and recovery purposes to conduct presence/absence surveys of southwestern willow flycatcher (Empinodax traillii extimus), northern aplomado falcon (Falco femoralis septentrioalis), and interior least tern (Sternula antillarum athalassos) within Arizona, New Mexico, and Texas.

Permit TE-039544

Applicant: Michael Forstner, San Marcos, Texas.

Applicant requests a renewal to a current permit for research and recovery purposes to conduct the following activities for Houston toad (Bufo houstonensis): presence/absence surveys; conduct outreach activities; captively propagate and headstart; and reintroduce to sites not historically documented within Texas.

Permit TE-069848

Applicant: Ross Rasmussen, Plano, Texas.

Applicant requests a renewal to a current permit for research and recovery purposes to conduct presence/absence surveys for the following species in Arizona, New Mexico, and Texas:

• Black-capped vireo (Vireo atricapilla)

• Golden-cheeked warbler (Dendroica chrysoparia)

• Northern aplomado falcon (Falco femoralis septentrioalis)

• Southwestern willow flycatcher (Empinodax traillii extimus)

Permit TE-92407A

Applicant: Raven Environmental Services, Inc., Huntsville, Texas.

Applicant requests an amendment to a current permit for research and recovery purposes to conduct the following activities for red-cockaded woodpeckers (Picoides borealis): construct and monitor artificial nest cavities and restrictors; monitor populations and nest cavities using Swedish climbing ladders and/or video probes (peepers); translocate individuals; and capture and release adult birds using pole net over nest cavities and nestlings using the noose method throughout the species' range in the southwest and southeast regions of the Service.

Permit TE-13598B

Applicant: Bradley Burford, Frederick, Maryland.

Applicant requests a new permit for research and recovery purposes to conduct presence/absence surveys for American burying beetle (Nicrophorus americanus) within Arkansas, Kansas, Missouri, Ohio, Oklahoma, Rhode Island, South Dakota, and Texas.

Permit TE-829996

Applicant: Houston Zoo, Houston, Texas.

Applicant requests a renewal to a current permit for research and recovery purposes to conduct presence/absence surveys for and/or conduct husbandry and holding of the following species in Texas:

• Barton Springs salamander (Eurycea sosorum)

• Big Bend gambusia (Gambusia gaigei)

• Comanche Springs pupfish (Cyprinodon elegans)

• Hawksbill sea turtle (Eretmochelys imbricata)

• Houston toad (Bufo houstonensis)

• Jaguarundi (Herpailurus jagouaroundi cacomitli)

• Kemps ridley sea turtle (Lepidochelys kempii)

• Leatherback sea turtle (Dermochelys coriacea)

• Leon Springs pupfish (Cyprinodon bovinus)

Permit TE-13600B

Applicant: Omaha's Henry Doorly Zoo and Aquarium, Omaha, Nebraska.

Applicant requests a new permit for research and recovery purposes to conduct husbandry and holding of woundfin (Plagopterus argentissimus) and Gila topminnow (Poeciliopsis occidentalis) at the zoo in Nebraska.

Permit TE-046447

Applicant: U.S. Geological Survey, Yankton, South Dakota.

Applicant requests a renewal of a current permit for research and recovery purposes to hold and captively propagate Rio Grande silvery minnows (Hybognathus amarus) at the field station in Yankton, South Dakota.

Permit TE-13914B

Applicant: Justin Coons, Shiatook, Oklahoma.

Applicant requests a new permit for research and recovery purposes to conduct presence/absence surveys for American burying beetle (Nicrophorus americanus) within Oklahoma.

Permit TE-65178A

Applicant: Jennifer Reidy, Liberty, Missouri.

Applicant requests an amendment to a current for research and recovery purposes to conduct banding of nestling golden-cheeked warlbers (Dendroica chrysoparia) within Balcones Canyonlands National Wildlife Refuge, Texas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: August 27, 2013.
Joy E. Nicholopoulos,
Acting Regional Director, Southwest Region.

[FR Doc. 2013-21810 Filed 9-6-13; 8:45 am]

BILLING CODE 4310-55-P